DEPARTMENT OF HEALTH AND HUMAN SERVICES

Indian Health Service

Request For Public Comment: 30-Day Proposed Information Collection: Indian Health Service Medical Staff Credentials and Privileges Files

Agency: Indian Health Service, HHS.

Action: Notice.

SUMMARY: In compliance with Section 3506(c)(2)(A) of the Paperwork Reduction Act of 1995, which requires 30 days for public comment on proposed information collection projects, the Indian Health Service (IHS) has submitted to the Office of Management and Budget (OMB) a request to review and approve the information collection listed below. This proposed information collection project was previously published in the Federal Register (74 FR 63754) on December 4, 2009 and allowed 60 days for public comment. No public comment was received in response to the notice. The purpose of this notice is to allow 30 days for public comment to be submitted directly to OMB.

Proposed Collection: Title: 0917-0009, “Indian Health Service Medical Staff Credentials and Privileges Files.”

Type of Information Collection Request: Extension, without revision, of currently approved information collection, 0917-0009, “Indian Health Service Medical Staff Credentials and Privileges Files” agreement.

Form Numbers(s): None.

Need and Use of Information Collection: This collection of information is used to evaluate individual health care providers applying for medical staff privileges at IHS health care facilities. The Department of Health and Human Services operates health care facilities that provide health care services to American Indians and Alaska Natives. To provide these services, the IHS employs (directly and under contract) several categories of health care providers including: Physicians (M.D. and D.O.), dentists, psychologists, optometrists, podiatrists, audiologists, physician assistants, certified registered nurse anesthetists, nurse practitioners, and certified nurse midwives. IHS policy specifically requires physicians and dentists to be members of the health care facility medical staff where they practice. Health care providers become medical staff members, depending on the local health care facility's capabilities and medical staff bylaws. There are three types of IHS medical staff applicants: (1) Health care providers applying for direct employment with IHS; (2) contractors who will not seek to become IHS employees; and (3) employed IHS health care providers who seek to transfer between IHS health care facilities.

National health care standards developed by the Centers for Medicare and Medicaid Services (formerly the Health Care Financing Administration), the Joint Commission on the Accreditation of Healthcare Organizations (JCAHO), and other accrediting organizations require health care facilities to review, evaluate and verify the credentials, training and experience of medical staff applicants prior to granting medical staff privileges. In order to meet these standards, IHS health care facilities require all medical staff applicants to provide information concerning their education, training, licensure, and work experience and any adverse disciplinary actions taken against them. This information is then verified with references supplied by the applicant and may include: Former employers, educational institutions, licensure and certification boards, the American Medical Association, the Federation of State Medical Boards, the National Practitioner Data Bank, and the applicants themselves.

In addition to the initial granting of medical staff membership and clinical privileges, JCAHO standards require that a review of the medical staff be conducted not less than every two years. This review evaluates the current competence of the medical staff and verifies whether they are maintaining the licensure or certification requirements of their specialty.

The medical staff credentials and privileges records are maintained at the health care facility where the health care provider is a medical staff member. The establishment of these records at IHS health care facilities is not optional; such records must be established and accredited by JCAHO. Prior to the establishment of this JCAHO requirement, the degree to which medical staff applications were maintained at all health care facilities in the United States that are verified for completeness and accuracy varied greatly across the Nation.

The application process has been streamlined and is using information technology to make the application electronically available on the Internet.

Affected Public: Individuals and households.

Type of Respondents: Individuals.

The table below provides: Types of data collection instruments, Estimated number of respondents, Number of annual number of responses, Average burden per response, and Total annual burden hours.

Data collection instrument(s) | Estimated number of respondents | Responses per respondent | Average burden hour per response* | Total annual burden hours
Application to Medical Staff | 570 | 1 | 1.00 (60 mins) | 570
Reference Letter | 1710 | 1 | 0.33 (20 mins) | 570
Reappointment Request | 190 | 1 | 1.00 (60 mins) | 190
Ob-Gyn Privileges | 20 | 1 | 1.00 (60 mins) | 20
Internal Medicine | 325 | 1 | 1.00 (60 mins) | 325
Surgery Privileges | 20 | 1 | 1.00 (60 mins) | 20
Psychiatry Privileges | 13 | 1 | 1.00 (60 mins) | 13
Anesthesia Privileges | 15 | 1 | 1.00 (60 mins) | 15
Dental Privileges | 150 | 1 | 0.33 (20 mins) | 50
Optometry Privileges | 21 | 1 | 0.33 (20 mins) | 7
Psychology Privileges | 30 | 1 | 0.17 (10 mins) | 5
Audiology Privileges | 7 | 1 | 0.08 (5 mins) | 1
Podiatry Privileges | 7 | 1 | 0.08 (5 mins) | 1
Radiology Privileges | 8 | 1 | 0.33 (20 mins) | 3
Pathology Privileges | 3 | 1 | 0.33 (20 mins) | 1
Total | 3,089 |  |  | 1,791
* For ease of understanding, burden hours are provided in actual minutes. There are no capital costs, operating costs and/or maintenance costs to respondents.

Request For Comments: Your written comments and/or suggestions are invited on one or more of the following points: (a) Whether the information collection activity is necessary to carry out an agency function; (b) whether the agency processes the information collected in a useful and timely fashion; (c) the accuracy of public burden estimate (the estimated amount of time needed for individual respondents to provide the requested information); (d) whether the methodology and assumptions used to determine the estimate is logical; (e) ways to enhance the quality, utility, and clarity of the information being collected; and (f) ways to minimize the public burden through the use of automated, electronic, mechanical, or other technological collection techniques or other forms of information technology.

Direct Comments to OMB: Send your written comments and suggestions regarding the proposed information collection contained in this notice, especially regarding the estimated public burden and associated response time to: Office of Management and Budget, Office of Regulatory Affairs, Attention: Desk Officer for IHS, New Executive Office Building, Room 10235, Washington, DC 20503.

Send Comments and Requests for Further Information: To request more information on the proposed collection or to obtain a copy of the data collection instrument(s) and/or instruction(s) contact: Mr. Hershel Gorham, Reports Clearance Officer, 801 Thompson Avenue, TMP, Suite 450, Rockville, MD 20852-1627; call non-toll free (301) 443-5932; send via facsimile to (301) 443-9879; or send your e-mail requests, comments, and return address to: Hershel.Gorham@ihs.gov.

Comment Due Date: Comments regarding this information collection are best assured of having full effect if received within 30 days of the date of this publication.

Dated: March 19, 2010.
Yvette Roubideaux,
Director, Indian Health Service.

[FR Doc. 2010-7253 Filed 3-30-10; 8:45 am]

BILLING CODE 4165-16-P